DEPARTMENT OF LABOR

Employment and Training Administration

[TA-W-56,582]

TI Automotive, LLC, Normal, IL; Notice of Termination of Investigation

Pursuant to section 221 of the Trade Act of 1974, as amended, an investigation was initiated on February 16, 2005, in response to a petition filed by a company official on behalf of workers at TI Automotive, LLC, Normal, Illinois.

The petitioner has requested that the petition be withdrawn. Consequently, the investigation has been terminated.

Signed in Washington, DC this 9th day of March, 2005.
Elliott S. Kushner
Certifying Officer, Division of Trade Adjustment Assistance.

[FR Doc. E5-1352 Filed 3-25-05; 8:45 am]

BILLING CODE 4510-30-P